DEPARTMENT OF AGRICULTURE

Rural Utilities Service

Basin Electric Power Cooperative, Inc.: Notice of Intent To Prepare an Environmental Impact Statement and Hold Public Scoping Meetings

AGENCY: Rural Utilities Service, USDA.

ACTION: Notice.

SUMMARY: The Rural Utilities Service (RUS), an agency within the U.S. Department of Agriculture (USDA), intends to prepare an environmental impact statement (EIS) for Basin Electric Power Cooperative's (Basin Electric) proposed Antelope Valley Station (AVS) to Neset Transmission Project (Project) in North Dakota. RUS is issuing this Notice of Intent (NOI) to inform the public and interested parties about the proposed Project, conduct a public scoping process, and invite the public to comment on the scope, proposed action, and other issues to be addressed in the EIS.

The EIS will address the construction, operation, and maintenance of Basin Electric's proposed Project. The Project includes construction, operation and maintenance of approximately 190 miles of new 345-kV single pole transmission line and double circuit 345/115-kV transmission lines, 2 new substations, modifications to 4 existing substations, a 345-kV switchyard, maintenance access roads, temporary construction roads, river crossings, temporary construction staging sites, and other facilities to be described in the proposed EIS. Basin Electric's proposed Project would be located in portions of Billings, Dunn, McKenzie, Mercer, Mountrail, and Williams counties in western North Dakota.

Portions of Basin Electric's proposed Project may affect floodplains and wetlands. This NOI also serves as a notice of proposed floodplain or wetland action. RUS will hold public scoping meetings to share information and receive comments and suggestions on the scope of the EIS in areas near and affected by the proposed Project.

DATES: An open-house public scoping meetings will be held on November 15, 2011, from 4 to 7 p.m. central time at the Ernie French Center, North Dakota State University Williston Research Extension Office, 14120 Highway 2, Williston, North Dakota 58801; and on November 16, 2011, from 4 to 7 p.m. mountain time at the American Legion Hall Post 46, 42 Central Avenue, Killdeer, North Dakota 58640. In order to be considered, all fax or email comments or suggestions regarding the appropriate scope of the EIS must be received by the end of the scoping period. Comments regarding the Project may be submitted in writing at the public scoping meeting or mailed to the RUS address provided in this Notice. Mailed comments must be postmarked no later than midnight on December 2, 2011.

ADDRESSES: Written comments on the scope of the EIS should be addressed to Mr. Dennis Rankin, Environmental Protection Specialist, USDA, Rural Utilities Service, 1400 Independence Avenue SW., Stop 1571, Washington, DC 20250-1571, telephone: (202) 720-1953, or email: dennis.rankin@wdc.usda.gov.

FOR FURTHER INFORMATION CONTACT: For information on the proposed Project, the EIS process, and RUS financing, contact Mr. Dennis Rankin, Engineering and Environmental Staff, Rural Utilities Service, 1400 Independence Avenue SW., Mail Stop 1571, Washington, DC 20250-1571, telephone: (202) 720-1953, or email: dennis.rankin@wdc.usda.gov. Parties wishing to be placed on the Project mailing list for future information and to receive copies of the Draft and Final EIS when they are available should also contact Mr. Rankin.

SUPPLEMENTARY INFORMATION: RUS is authorized to make loans and loan guarantees that finance the construction of electric distribution, transmission, and generation facilities, including system improvements and replacements required to furnish and improve electric service in rural areas, as well as demand side management, energy conservation programs, and on-grid and off-grid renewable energy systems. Based on an interconnection with the Western Area Power Administration's (Western) transmission system, Western has in accordance with 40 CFR 1501.6 Cooperating agencies, requested to serve as a cooperating agency for the environmental review of the proposed project.

Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

Project Description: Basin Electric has identified the need for additional electric transmission capacity in northwestern North Dakota as a result of increased demand and to meet reliability and system stability requirements for the region. Investigations and analyses conducted for the overall power delivery systems found that without improvements, the flow of power along existing lines may result in local line overloads, especially in the vicinity of Williston, North Dakota.

To resolve these issues, Basin Electric is proposing to construct, own and operate a new 345-kV transmission line and associated supporting infrastructure. The entire project will consist of constructing approximately 190 miles of new single circuit 345-kV and double circuit 345/115-kV transmission lines, the construction of 2 new substations, modifications to 4 existing substations, a 345-kV switchyard, maintenance access roads, temporary construction roads, river crossings, temporary construction staging sites, and other facilities. The Project would connect to the Integrated System at several locations, including Western's Williston Substation. The proposed Project would be located in portions of Billings, Dunn, McKenzie, Mercer, Mountrail, and Williams counties in western North Dakota.

Basin Electric has requested financial assistance for the proposed Project from the U.S. Department of Agriculture, Rural Utilities Service (RUS). Completing the EIS is one of RUS's requirements in processing Basin Electric's application, along with other technical and financial considerations.

In accordance with 40 CFR 1501.5(b) of the Council of Environmental Quality's Regulation for Implementing the Procedural Provisions of the National Environmental Policy Act, RUS will serve as the-lead agency in the preparation of the EIS. Other agencies and Native American Tribes with jurisdiction or special expertise will be invited to participate as cooperating agencies per § 1501.6.

The proposed Project is subject to the jurisdiction of the North Dakota Public Service Commission (NDPSC), which has regulatory authority for siting electrical transmission facilities within the State. Basin Electric will submit an application for NDPSC Transmission Corridor and Route Permits. The NDPSC Permits would authorize Basin Electric to construct the proposed Project under North Dakota rules and regulations.

RUS intends to prepare an EIS to analyze the impacts of its respective federal actions and the proposed Project in accordance with NEPA, as amended, CEQ's Regulation for Implementing the Procedural Provisions of the National Environmental Policy Act (40 CFR parts 1500-1508), DOE NEPA Implementing Procedures (10 CFR part 1021), and RS Environmental Policies and Procedures (7 CFR part 1794).

Because the proposed Project may involve action in floodplains or wetlands, this NOI also serves as a notice of proposed floodplain or wetland action. The EIS will include a floodplain/wetland assessment and, if required, a floodplain/wetland statement of findings will be issued with the Final EIS.

Agency Responsibilities: RUS is serving as the lead Federal agency, as defined at 40 CFR 1501.5, for preparation of the EIS. With this notice, Native American Tribes and agencies with jurisdiction or special expertise are invited to be cooperating agencies. Such tribes or agencies may make a request to RUS to be a cooperating agency by contacting Mr. Rankin. Designated cooperating agencies have certain responsibilities to support the NEPA process, as specified at 40 CFR 1501.6(b).

Environmental Issues: This notice is to inform agencies and the public of RUS' federal action, and the proposed Project, and to solicit comments and suggestions for consideration in preparing the EIS. To help the public frame its comments, this notice contains a list of potential environmental issues that RUS has tentatively identified for analysis. These issues include:

1. Impacts on protected, threatened, endangered, or sensitive species of animals or plants;

2. Impacts on avian and bat species;

3. Impacts on land use, recreation, and transportation;

4. Impacts on cultural resources or historic properties and tribal values;

5. Impacts on human health and safety;

6. Impacts on air, soil, and water resources (including air quality and surface water impacts);

7. Visual impacts; and

8. Socioeconomic impacts and whether there would be any disproportionately high and adverse impacts to minority and low-income populations.

This list is not intended to be all-inclusive or to imply any predetermination of impacts. Environmental issues associated with the action of RUS, and Basin Electric's proposed Project will be addressed separately in the EIS. RUS invites interested parties to suggest specific issues within these general categories, or other issues not included above, to be considered in the EIS.

Public Participation: Public participation and full disclosure are planned for the entire EIS process. The EIS process will include open-house public scoping meetings and a scoping comment period to solicit comments from interested parties; consultation and involvement with appropriate Federal, State, local, and tribal governmental agencies; public review and a hearing on the draft EIS; publication of a final EIS; and publication of a Record of Decision. Expected EIS completion date is December 2013. Additional informal public meetings may be held in the proposed Project areas, if public interest and issues indicate a need; if additional public meeting are determined to be necessary public notices will be published as appropriate.

RUS will hold open-house public scoping meetings in Williston, North Dakota, and Killdeer, North Dakota as noted above. The time and locations of these meetings will be well advertised in local media outlets a minimum of 15 days prior to the time of the meetings. Attendees are welcome to come and go at their convenience and to speak one-on-one with Project representatives and agency staff. The public will have the opportunity to provide written comments at the meeting. In addition, attendees may provide written comments by letter, fax, email.

The public scoping period begins with publication of this notice in the Federal Register and closes December 2, 2011. To be considered in defining the scope of the EIS, comments should be received by the end of the scoping period.

Dated: October 27, 2011.
Mark Plank,
Director, Engineering and Environmental Staff, Rural Utilities Service.

[FR Doc. 2011-28309 Filed 11-1-11; 8:45 am]

BILLING CODE P